DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual Regulatory Agenda.

SUMMARY: This regulatory agenda is a semiannual summary of projected regulations, existing regulations, and completed actions of the Department of Homeland Security (DHS) and its components. This agenda provides the public with information about DHS's regulatory and deregulatory activity. DHS expects that this information will enable the public to be more aware of, and effectively participate in, the Department's regulatory and deregulatory activity. DHS invites the public to submit comments on any aspect of this agenda.

FOR FURTHER INFORMATION CONTACT:

General

Please direct general comments and inquiries on the agenda to the Regulatory Affairs Law Division, Office of the General Counsel, U.S. Department of Homeland Security, 2707 Martin Luther King Jr. Avenue SE, Mail Stop 0485, Washington, DC 20528-0485.

Specific

Please direct specific comments and inquiries on individual actions identified in this agenda to the individual listed in the summary portion as the point of contact for that action.

SUPPLEMENTARY INFORMATION: DHS provides this notice pursuant to the requirements of the Regulatory Flexibility Act (Pub. L. 96-354, Sept. 19, 1980) and Executive Order 12866 “Regulatory Planning and Review” (Sept. 30, 1993) as incorporated in Executive Order 13563 “Improving Regulation and Regulatory Review” (Jan. 18, 2011), which require the Department to publish a semiannual agenda of regulations. The regulatory agenda is a summary of existing and projected regulations as well as actions completed since the publication of the last regulatory agenda for the Department. DHS's last semiannual regulatory agenda was published online on June 13, 2023, at https://www.reginfo.gov/public/do/eAgendaMain.

Beginning in fall 2007, the Internet became the basic means for disseminating the Unified Agenda. The complete Unified Agenda is available online at www.reginfo.gov.

The Regulatory Flexibility Act (5 U.S.C. 602) requires Federal agencies to publish their regulatory flexibility agendas in the Federal Register. A regulatory flexibility agenda shall contain, among other things, a brief description of the subject area of any rule which is likely to have a significant economic impact on a substantial number of small entities. DHS's printed agenda entries include regulatory actions that are in the Department's regulatory flexibility agenda. Printing of these entries is limited to fields that contain information required by the agenda provisions of the Regulatory Flexibility Act. Additional information on these entries is available in the Unified Agenda published on the internet.

The semiannual agenda of the Department conforms to the Unified Agenda format developed by the Regulatory Information Service Center.

Christina E. McDonald,
Associate General Counsel for Regulatory Affairs.

Office of the Secretary—Completed Actions
Sequence No. | Title | Regulation Identifier No.
351 | Homeland Security Acquisition Regulation, Subcontractor Labor Hour Rates Under Time and Materials Contracts | 1601-AA65
352 | Homeland Security Acquisition Regulation: Safeguarding of Controlled Unclassified Information (HSAR Case 2015-001) | 1601-AA76

U.S. Citizenship and Immigration Services—Proposed Rule Stage
Sequence No. | Title | Regulation Identifier No.
353 | Modernizing H-1B Requirements and Oversight, Providing Flexibility in the F-1 Program, and Program Improvements Affecting Other Nonimmigrant Workers (Reg Plan Seq No. 90) | 1615-AC70
354 | Modernizing H-2 Program Requirements, Oversight, and Worker Protections (Reg Plan Seq No. 91) | 1615-AC76
355 | Petition for Immigrant Worker Reforms | 1615-AC85
356 | Modernizing Regulations Governing Nonimmigrant Workers | 1615-AC88
References in boldface appear in The Regulatory Plan in part II of this issue of the Federal Register.

U.S. Citizenship and Immigration Services—Final Rule Stage
Sequence No. | Title | Regulation Identifier No.
357 | U.S. Citizenship and Immigration Services Fee Schedule and Changes to Certain Other Immigration Benefit Request Requirements (Reg Plan Seq No. 93) | 1615-AC68
References in boldface appear in The Regulatory Plan in part II of this issue of the Federal Register.

U.S. Coast Guard—Proposed Rule Stage
Sequence No. | Title | Regulation Identifier No.
358 | Claims Procedures Under the Oil Pollution Act of 1990 | 1625-AA03
359 | Cybersecurity in the Marine Transportation System (Reg Plan Seq No. 95) | 1625-AC77
360 | MARPOL Annex VI; Prevention of Air Pollution From Ships (Reg Plan Seq No. 96) | 1625-AC78
References in boldface appear in The Regulatory Plan in part II of this issue of the Federal Register.

U.S. Coast Guard—Final Rule Stage
Sequence No. | Title | Regulation Identifier No.
361 | User Fees for Inspected Towing Vessels | 1625-AC55
362 | Lifejacket Approval Harmonization | 1625-AC62

U.S. Coast Guard—Long-Term Actions
Sequence No. | Title | Regulation Identifier No.
363 | Commercial Fishing Vessels—Implementation of 2010 and 2012 Legislation | 1625-AB85

Transportation Security Administration—Long-Term Actions
Sequence No. | Title | Regulation Identifier No.
364 | Vetting of Certain Surface Transportation Employees | 1652-AA69
365 | Amending Vetting Requirements for Employees With Access to a Security Identification Display Area (SIDA) | 1652-AA70

Federal Emergency Management Agency—Proposed Rule Stage
Sequence No. | Title | Regulation Identifier No.
366 | Updates to Floodplain Management and Protection of Wetlands Regulations to Implement the Federal Flood Risk Management Standard (Reg Plan Seq No. 105) | 1660-AB12
References in boldface appear in The Regulatory Plan in part II of this issue of the Federal Register.

Cybersecurity and Infrastructure Security Agency—Proposed Rule Stage
Sequence No. | Title | Regulation Identifier No.
367 | Ammonium Nitrate Security Program | 1670-AA00
368 | Chemical Facility Anti-Terrorism Standards (CFATS) | 1670-AA01

DEPARTMENT OF HOMELAND SECURITY (DHS)

Office of the Secretary (OS)

Completed Actions

351. Homeland Security Acquisition Regulation, Subcontractor Labor Hour Rates Under Time and Materials Contracts [1601-AA65]

Legal Authority: 5 U.S.C. 301; 5 U.S.C. 302; 41 U.S.C. 418b(a); 41 U.S.C. 418b(b); 41 U.S.C. 414; 48 CFR 1, subpart 1.3; DHS Delegation Number 0700

Abstract: The Department of Homeland Security (DHS) is withdrawing its proposed rule titled Homeland Security Acquisition Regulation (HSAR) Subcontractor Labor Hour Rates Under Time and Materials Contracts (HSAR Case 2010-001) and providing a Notice of Withdrawal. The notice of proposed rulemaking proposed to amend the Homeland Security Acquisition Regulation (HSAR) parts 3016 and 3052 to require DHS contracts for time and material or labor hours (T&M/LH) to include separate labor hour rates for subcontractors and a description of the method that will be used to record and bill for labor hours for both contractors and subcontractors. DHS is withdrawing this proposed rule because of differing agency priorities and the staleness of the public comments. DHS will not take any further action on this proposal at this time.

Timetable:

Action | Date | FR Cite
NPRM | 08/21/12 | 77 FR 50449
NPRM Comment Period End | 10/22/12 |
Notice of Withdrawal | 09/19/23 | 88 FR 64399

Regulatory Flexibility Analysis Required: Yes.

Agency Contact: Catherine Benavides, Senior Procurement Analyst, Department of Homeland Security, Office of the Chief Procurement Officer, Acquisition Policy and Legislation Branch, Acquisition Policy & Oversight Division, 6595 Springfield Drive, Springfield, VA 22150, Phone: 202 875-1049, Email: catherine.benavides@hq.dhs.gov.

RIN: 1601-AA65

352. Homeland Security Acquisition Regulation: Safeguarding of Controlled Unclassified Information (HSAR Case 2015-001) [1601-AA76]

Legal Authority: 5 U.S.C. 301 to 302; 41 U.S.C. 1302, 1303 and 1707

Abstract: This Homeland Security Acquisition Regulation (HSAR) rule implements security and privacy measures to ensure Controlled Unclassified Information (CUI), such as Personally Identifiable Information (PII), is adequately safeguarded by DHS contractors. Specifically, the rule defines key terms, outlines security requirements and inspection provisions for contractor information technology (IT) systems that store, process or transmit CUI, institutes incident notification and response procedures, and identifies post-incident credit monitoring requirements.

Timetable:

Action | Date | FR Cite
NPRM | 01/19/17 | 82 FR 6429
NPRM Comment Period End | 03/20/17 |
NPRM Comment Period Extended | 03/20/17 | 82 FR 14341
NPRM Comment Period Extended End | 04/19/17 |
Final Rule | 06/21/23 | 88 FR 40560
Final Rule Correction | 07/21/23 | 88 FR 47054
Final Rule Effective | 07/21/23 |

Regulatory Flexibility Analysis Required: Yes.

Agency Contact: Shaundra Ford, Procurement Analyst, Department of Homeland Security, Office of the Chief Procurement Officer, Acquisition Policy and Legislation, 245 Murray Lane SW, Washington, DC 20528, Phone: 202 447-0056, Email: shaundra.ford@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA76

DEPARTMENT OF HOMELAND SECURITY (DHS)

U.S. Citizenship and Immigration Services (USCIS)

Proposed Rule Stage

353. Modernizing H-1B Requirements And Oversight, Providing Flexibility in the F-1 Program, and Program Improvements Affecting Other Nonimmigrant Workers [1615-AC70]

Regulatory Plan: This entry is Seq. No. 90 in part II of this issue of the Federal Register.

RIN: 1615-AC70

354. Modernizing H-2 Program Requirements, Oversight, and Worker Protections [1615-AC76]

Regulatory Plan: This entry is Seq. No. 91 in part II of this issue of the Federal Register.

RIN: 1615-AC76

355. • Petition for Immigrant Worker Reforms [1615-AC85]

Legal Authority: 6 U.S.C. 112; 8 U.S.C. 1103(a); 8 U.S.C. 1153(b); 8 U.S.C. 1154(a)(1)(E) and (F); 8 U.S.C. 1182(a)(5)(C) and (r)

Abstract: The Department of Homeland Security (DHS) is proposing to amend its regulations governing employment-based immigrant petitions in the first, second, and third preference classifications. Petitions for these classifications are filed by employers, or in certain cases by noncitizens on their own behalf, to bring talent and skills to the United States. The proposed rule would, if finalized, codify current policy guidance and implement administrative decisions regarding successorship-in-interest and ability to pay; update provisions governing extraordinary ability and outstanding professors and researchers; modernize outdated provisions for individuals of extraordinary ability and outstanding professors and researchers; clarify evidentiary requirements for first preference classifications, second preference national interest waiver (NIW) classifications, and physicians of national and international renown; implement reforms to ensure the integrity of the I-140 program; and correct errors and omissions.

Timetable:

Action | Date | FR Cite
NPRM | 08/00/24 |

Regulatory Flexibility Analysis Required: Yes.

Agency Contact: Charles Nimick, Chief, Business and Foreign Workers Division, Office of Policy and Strategy, Department of Homeland Security, U.S. Citizenship and Immigration Services, 5900 Capital Gateway Drive, Suite 4S190, Camp Springs, MD 20588-0009, Phone: 240 721-3000.

RIN: 1615-AC85

356. • Modernizing Regulations Governing Nonimmigrant Workers [1615-AC88]

Legal Authority: 8 U.S.C. 1101; 8 U.S.C. 1184; 8 U.S.C. 1324a

Abstract: The Department of Homeland Security (DHS) proposes to amend its regulations governing certain nonimmigrant workers. The proposed changes include updating the employment authorization rules regarding dependent spouses of certain nonimmigrants; increasing flexibilities for certain nonimmigrant workers, including those who resign or are terminated from employment and religious workers who have reached their maximum period of stay or are waiting for immigrant visas to become available; and additional measures to modernize policies and procedures for Employment Authorization Documents.

Timetable:

Action | Date | FR Cite
NPRM | 10/00/24 |

Regulatory Flexibility Analysis Required: Yes.

Agency Contact: Mark Phillips, Residence and Naturalization Division Chief, Department of Homeland Security, U.S. Citizenship and Immigration Services, Office of Policy and Strategy, 5900 Capital Gateway Drive, Suite 4S190, Camp Springs, MD 20588-0009, Phone: 240 721-3000.

RIN: 1615-AC88

DEPARTMENT OF HOMELAND SECURITY (DHS)

U.S. Citizenship and Immigration Services (USCIS)

Final Rule Stage

357. U.S. Citizenship and Immigration Services Fee Schedule and Changes to Certain Other Immigration Benefit Request Requirements [1615-AC68]

Regulatory Plan: This entry is Seq. No. 93 in part II of this issue of the Federal Register.

RIN: 1615-AC68

DEPARTMENT OF HOMELAND SECURITY (DHS)

U.S. Coast Guard (USCG)

Proposed Rule Stage

358. Claims Procedures Under the Oil Pollution Act of 1990 [1625-AA03]

Legal Authority: 33 U.S.C. 2713 and 2714

Abstract: The purpose of this project is to remove superseded regulations at 33 Code of Federal Regulations (CFR) part 135, and to finalize the Oil Pollution Act of 1990 (OPA90) claims procedures at 33 CFR part 136. The OPA90 claims procedures, implementing OPA90 section 1013 (Claims Procedures) and section 1014 (Designation of Source and Advertisement), were established by an interim rule, titled “Claims under the Oil Pollution Act of 1990” (Interim Rule) that has not been substantively amended since it was published in 1992. This rulemaking supports the Coast Guard's strategic goal of protection of natural resources.

Timetable:

Action | Date | FR Cite
Interim Final Rule | 08/12/92 | 57 FR 36314
Correction | 09/09/92 | 57 FR 41104
Interim Final Rule Comment Period End | 12/10/92 |
Notice of Inquiry | 11/01/11 | 76 FR 67385
Notice of Inquiry Comment Period End | 01/30/12 |
NPRM | 03/00/24 |

Regulatory Flexibility Analysis Required: Yes.

Agency Contact: Benjamin White, Project Manager, Department of Homeland Security, U.S. Coast Guard, National Pollution Funds Center (NPFC), 2703 Martin Luther King Jr. Avenue SE, STOP 7605, Washington, DC 20593-7605, Phone: 202 795-6066, Email: benjamin.h.white@uscg.mil.

RIN: 1625-AA03

359. Cybersecurity in the Marine Transportation System [1625-AC77]

Regulatory Plan: This entry is Seq. No. 95 in part II of this issue of the Federal Register.

RIN: 1625-AC77

360. Marpol Annex VI; Prevention of Air Pollution From Ships [1625-AC78]

Regulatory Plan: This entry is Seq. No. 96 in part II of this issue of the Federal Register.

RIN: 1625-AC78

DEPARTMENT OF HOMELAND SECURITY (DHS)

U.S. Coast Guard (USCG)

Final Rule Stage

361. User Fees for Inspected Towing Vessels [1625-AC55]

Legal Authority: 46 U.S.C. 2103; 46 U.S.C. 2110; Pub. L. 115-282, sec. 815

Abstract: This rulemaking would revise user fees for towing vessels inspected under 46 CFR subchapter M and update the existing user fee in 46 CFR 2.10-101 for sea-going towing vessels inspected under 46 CFR subchapter I. These user fees are for services related to the inspection of these vessels and will reflect the differences in cost to the government to provide these services to vessels that use a safety management system involving a third party and vessels that do not.

Timetable:

Action | Date | FR Cite
NPRM | 01/11/22 | 87 FR 1378
NPRM Comment Period End | 04/11/22 |
Final Rule | 07/00/24 |

Regulatory Flexibility Analysis Required: Yes.

Agency Contact: Jennifer Hnatow, Project Manager, Department of Homeland Security, U.S. Coast Guard, Commercial Vessel Compliance (CG-CVC-1), 2703 Martin Luther King Jr. Avenue SE, STOP 7501, Washington, DC 20593-7501, Phone: 202 372-1216, Email: jennifer.l.hnatow@uscg.mil.

RIN: 1625-AC55

362. Lifejacket Approval Harmonization [1625-AC62]

Legal Authority: 46 U.S.C. 3306(a); 46 U.S.C. 3306(b); 46 U.S.C. 4102(a); 46 U.S.C. 4102(b); 46 U.S.C. 4302(a); 46 U.S.C. 4502(a); 46 U.S.C. 4502(c)(2)(B)

Abstract: The Coast Guard would amend the lifejacket approval requirements and follow-up program requirements by incorporating new bi-national standards. At the same time, the Coast Guard would amend lifejacket and personal flotation devices (PFDs) carriage requirements to allow for the use of equipment approved to the new standards, and to remove obsolete equipment approval requirements. The new standards are intended to replace the legacy standards. The amendments would streamline the process for approval of PFDs and allow manufacturers the opportunity to produce more innovative equipment that meets the approval requirements of both Canada and the United States, while reducing the burden for manufacturers in both the approval process and follow-up program. The rule is expected to provide a cost savings by reducing the regulatory burden on PFD manufacturers by harmonizing our PFD approval standards with Canada, requiring less frequent inspections of manufacturing facilities, providing lower cost PFD user manuals, and by potentially creating a new market in PFDs with a lower buoyancy rating. This rule is consistent with Executive Order 14058, which directs agencies to take actions that improve service delivery and customer experience by decreasing administrative burdens, enhancing transparency, and improving the efficiency and effectiveness of government.

Timetable:

Action | Date | FR Cite
NPRM | 04/07/23 | 88 FR 21016
NPRM Correction | 05/01/23 | 88 FR 26514
NPRM Comment Period End | 06/06/23 |
Final Rule | 07/00/24 |

Regulatory Flexibility Analysis Required: Yes.

Agency Contact: Jacqueline M. Yurkovich, Project Manager, Department of Homeland Security, U.S. Coast Guard, Office of Design and Engineering Standards (CG-ENG-4), 2703 Martin Luther King Jr. Avenue SE, STOP 7509, Washington, DC 20593-7509, Phone: 202 372-1389, Email: jacqueline.m.yurkovich@uscg.mil.

RIN: 1625-AC62

DEPARTMENT OF HOMELAND SECURITY (DHS)

U.S. Coast Guard (USCG)

Long-Term Actions

363. Commercial Fishing Vessels—Implementation of 2010 and 2012 Legislation [1625-AB85]

Legal Authority: 46 U.S.C. 4502 and 5103; Pub. L. 111-281; Pub. L. 112-213

Abstract: The Coast Guard will implement 2010 and 2012 legislation that pertains to uninspected commercial fishing industry vessels. The requirements took effect upon enactment of the legislation but require amendments to Coast Guard regulations to be implemented. Coast Guard is changing the applicability of the regulations, and adding new requirements to safety training, equipment, vessel examinations, vessel safety standards, the documentation of maintenance, and the termination of unsafe operations. This rulemaking promotes the Coast Guard's maritime safety mission.

Timetable:

Action | Date | FR Cite
NPRM | 06/21/16 | 81 FR 40437
NPRM Comment Period Extended | 08/15/16 | 81 FR 53986
NPRM Comment Period End | 09/19/16 |
NPRM Comment Period Extended End | 12/18/16 |
Final Rule | 03/00/25 |

Regulatory Flexibility Analysis Required: Yes.

Agency Contact: Joseph Myers, Project Manager, Department of Homeland Security, U.S. Coast Guard, Office of Commercial Vessel Compliance (CG-CVC-3), 2703 Martin Luther King Jr. Avenue SE, STOP 7501, Washington, DC 20593-7501, Phone: 202 372-1249, Email: joseph.d.myers@uscg.mil.

RIN: 1625-AB85

DEPARTMENT OF HOMELAND SECURITY (DHS)

Transportation Security Administration (TSA)

Long-Term Actions

364. Vetting of Certain Surface Transportation Employees [1652-AA69]

Legal Authority: 49 U.S.C. 114; Pub. L. 108-90, sec. 520; Pub. L. 110-53, secs. 1411, 1414, 1512, 1520, 1522, and 1531

Abstract: The 9/11 Act requires vetting of certain railroad, public transportation, and over-the-road bus employees. Also, 6 U.S.C. 469 requires TSA to collect fees to recover the costs of the vetting services. On May 23, 2023, the Transportation Security Administration (TSA) issued a proposed rule to establish the standards and procedures to conduct the required vetting and recover costs. This regulation is related to 1652-AA55, Security Training for Surface Transportation Employees.

Timetable:

Action | Date | FR Cite
NPRM | 05/23/23 | 88 FR 33472
NPRM Comment Period End | 08/21/23 |
NPRM Extension of Comment Period | 08/22/23 | 88 FR 57044
NPRM Extension Comment Period End | 10/01/23 |
Final Rule | To Be Determined

Regulatory Flexibility Analysis Required: Yes.

Agency Contact: Victor Parker, Branch Manager, Policy Development Branch, Surface Division, Department of Homeland Security, Transportation Security Administration, Policy, Plans and Engagement, 6595 Springfield Center Drive, Springfield, VA 20598-6028, Phone: 571 227-3664, Email: victor.parker@tsa.dhs.gov.

James Ruger, Chief Economist, Economic Analysis Branch-Coordination & Analysis Division, Department of Homeland Security, Transportation Security Administration, Policy, Plans, and Engagement, 6595 Springfield Center Drive, Springfield, VA 20598-6028, Phone: 571 227-5519, Email: james.ruger@tsa.dhs.gov.

Christine Beyer, Senior Counsel, Regulations and Security Standards, Department of Homeland Security, Transportation Security Administration, Chief Counsel's Office, 6595 Springfield Center Drive, Springfield, VA 20598-6002, Phone: 571 227-3653, Email: christine.beyer@tsa.dhs.gov.

RIN: 1652-AA69

365. Amending Vetting Requirements for Employees With Access to a Security Identification Display Area (SIDA) [1652-AA70]

Legal Authority: Pub. L. 114-190, sec. 3405

Abstract: As required by the FESSA, TSA will propose a rule to revise its regulations, reflecting current knowledge of insider threat and intelligence, to enhance the eligibility requirements and disqualifying criminal offenses for individuals seeking or having unescorted access to any SIDA of an airport. Consistent with the statutory mandate, TSA will consider adding to the list of disqualifying criminal offenses and criteria, develop an appeal and waiver process for the issuance of credentials for unescorted access, and propose an extension of the lookback period for disqualifying crimes. As part of TSA's reevaluation of the eligibility and redress standards for aviation workers required by the Act, TSA is also reevaluating the current vetting process to minimize any security risks that may exist.

Timetable:

Action | Date | FR Cite
NPRM | To Be Determined

Regulatory Flexibility Analysis Required: Yes.

Agency Contact: Kevin Knott, Branch Manager, Airports Policy Branch-Aviation Division, Department of Homeland Security, Transportation Security Administration, Policy, Plans, and Engagement, 6595 Springfield Center Drive, Springfield, VA 20598-6028, Phone: 571 227-4370, Email: kevin.knott@tsa.dhs.gov.

James Ruger, Chief Economist, Economic Analysis Branch-Coordination & Analysis Division, Department of Homeland Security, Transportation Security Administration, Policy, Plans, and Engagement, 6595 Springfield Center Drive, Springfield, VA 20598-6028, Phone: 571 227-5519, Email: james.ruger@tsa.dhs.gov.

Christine Beyer, Senior Counsel, Regulations and Security Standards, Department of Homeland Security, Transportation Security Administration, Chief Counsel's Office, 6595 Springfield Center Drive, Springfield, VA 20598-6002, Phone: 571 227-3653, Email: christine.beyer@tsa.dhs.gov.

RIN: 1652-AA70

DEPARTMENT OF HOMELAND SECURITY (DHS)

Federal Emergency Management Agency (FEMA)

Proposed Rule Stage

366. Updates to Floodplain Management and Protection of Wetlands Regulations To Implement the Federal Flood Risk Management Standard [1660-AB12]

Regulatory Plan: This entry is Seq. No. 105 in part II of this issue of the Federal Register.

RIN: 1660-AB12

DEPARTMENT OF HOMELAND SECURITY (DHS)

Cybersecurity and Infrastructure Security Agency (CISA)

Proposed Rule Stage

367. Ammonium Nitrate Security Program [1670-AA00]

Legal Authority: 6 U.S.C. 488 et seq.

Abstract: The Cybersecurity and Infrastructure Security Agency (CISA) is proposing a rulemaking to implement the December 2007 amendment to the Homeland Security Act titled “Secure Handling of Ammonium Nitrate.” This amendment requires the Department of Homeland Security to “regulate the sale and transfer of ammonium nitrate by an ammonium nitrate facility . . . to prevent the misappropriation or use of ammonium nitrate in an act of terrorism.” CISA previously issued a Notice of Proposed Rulemaking (NPRM) on August 3, 2011. CISA is planning to issue a Supplemental Notice of Proposed Rulemaking (SNPRM).

Timetable:

Action | Date | FR Cite
ANPRM | 10/29/08 | 73 FR 64280
ANPRM Correction | 11/05/08 | 73 FR 65783
ANPRM Comment Period End | 12/29/08 |
NPRM | 08/03/11 | 76 FR 46908
Notice of Public Meetings | 10/07/11 | 76 FR 62311
Notice of Public Meetings | 11/14/11 | 76 FR 70366
NPRM Comment Period End | 12/01/11 |
Notice of Availability | 06/03/19 | 84 FR 25495
Notice of Availability Comment Period End | 09/03/19 |
Supplemental NPRM | 01/00/24 |

Regulatory Flexibility Analysis Required: Yes.

Agency Contact: Ryan Donaghy, Deputy Branch Chief for Chemical Security Policy, Rulemaking, and Engagement, Department of Homeland Security, Cybersecurity and Infrastructure Security Agency, 245 Murray Lane SW, Mail Stop 0610, Arlington, VA 20528, Phone: 571 532-4127, Email: ryan.donaghy@cisa.dhs.gov.

RIN: 1670-AA00

368. Chemical Facility Anti-Terrorism Standards (CFATS) [1670-AA01]

Legal Authority: 6 U.S.C. 621 to 629

Abstract: The Cybersecurity and Infrastructure Security Agency (CISA) previously invited public comment on an Advance Notice of Proposed Rulemaking (ANPRM) during August 2014 for potential revisions to the Chemical Facility Anti-Terrorism Standards (CFATS) regulations. The ANPRM provided an opportunity for the public to provide recommendations for possible program changes. In June 2020, CISA published for public comment a retrospective analysis of the CFATS program. And in January 2021, CISA invited additional public comment through an ANPRM concerning the removal of certain explosive chemicals from CFATS. CISA intends to address many of the subjects raised in both ANPRMs and the retrospective analysis in this regulatory action, including potential updates to CFATS cybersecurity requirements and Appendix A to the CFATS regulations.

Timetable:

Action | Date | FR Cite
ANPRM | 08/18/14 | 79 FR 48693
ANPRM Comment Period End | 10/17/14 |
ANPRM | 01/06/21 | 86 FR 495
Announcement of Availability; Retrospective Analysis | 06/22/20 | 85 FR 37393
Announcement of Availability; Retrospective Analysis Comment Period End | 09/21/20 |
NPRM | 11/00/23 |

Regulatory Flexibility Analysis Required: Yes.

Agency Contact: Ryan Donaghy, Deputy Branch Chief for Chemical Security Policy, Rulemaking, and Engagement, Department of Homeland Security, Cybersecurity and Infrastructure Security Agency, 245 Murray Lane SW, Mail Stop 0610, Arlington, VA 20528, Phone: 571 532-4127, Email: ryan.donaghy@cisa.dhs.gov.

RIN: 1670-AA01

[FR Doc. 2024-00454 Filed 2-8-24; 8:45 am]

BILLING CODE 9110-9B-P